DEPARTMENT OF ENERGY

Federal Energy Regulatory Commission

Notice of Amendment of License and Soliciting Comments, Motions to Intervene, and Protests

February 16, 2000.

Take notice that the following hydroelectric application has been filed with the Commission and is available for public inspection:

a. Application Type: Non-Project Use of Project Lands and Waters.

b. Project No.: 2210-044.

c. Date Filed: February 1, 2000.

d. Applicant: Appalachian Power Company.

e. Name of Project: Smith Mountain.

f. Location: The Smith Mountain Project is located on the Roanoke River in Bedford, Campbell, Franklin, Pittsylvania, and Roanoke Counties, Virginia. This project does not utilize Federal or Tribal lands.

g. Filed Pursuant to: Federal Power Act, 16 U.S.C. 791(a)-825(r).

h. Applicant Contact: Frank M. Simms, American Electric Power, 1 Riverside Plaza, Columbus, OH 43215-2373 telephone (614) 223-2918.

i. FERC Contact: Any questions on this notice should be addressed to Jon Cofrancesco at Jon.Cofrancesco@ferc.fed.us or telephone 202-219-0079.

j. Deadline for filing comments and or motions: March 21, 2000.

All documents (original and eight copies) should be filed with: David P. Boergers, Secretary, Federal Energy Regulatory Commission, 888 First Street, NE, Washington, DC 20426.

Please include the project number (2210-00) on any comments or motions filed.

k. Description of Project: Appalachian Power Company, licensee for the Smith Mountain Project, requests approval to grant permission to Magnum Point Marina, to install and operate two floating boat docks with a total of 26 slips within the boundary of the Smith Mountain Project. The proposed docks would be located along the Blackwater River portion of Smith Mountain Lake and added to the marina's existing facilities which include three boat docks with a total of 16 slips, a boat launching ramp, a maintenance building, a store, sanitary facilities, and paved parking. The installation of the proposed dock may require the dredging of approximately 926 cubic yards of material within the reservoir.

l. Locations of the application: A copy of the application is available for inspection and reproduction at the Commission's Public Reference Room, located at 888 First Street, NE, Room 2A, Washington, DC 20426, or by calling (202) 208-1371. The application may be viewed on the web at www.ferc.fed.us Call (202) 208-2222 for assistance. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTESTS”, OR “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-4185 Filed 2-22-00; 8:45 am]

BILLING CODE 6717-01-M